DEPARTMENT OF COMMERCE

International Trade Administration

[A-602-809]

Certain Hot-Rolled Steel Flat Products From Australia: Final Results of Antidumping Duty Administrative Review; 2016-2017

AGENCY: Enforcement and Compliance, International Trade Administration, Department of Commerce.

SUMMARY: The Department of Commerce (Commerce) determines that BlueScope Steel Ltd., BlueScope Steel (AIS) Pty Ltd., and BlueScope Steel Distribution Pty Ltd. (collectively, BlueScope) made sales of certain hot-rolled steel flat products from Australia at less than normal value during the period of review (POR), March 22, 2016, through September 30, 2017.

DATES: Applicable April 30, 2019.

FOR FURTHER INFORMATION CONTACT: Amanda Brings, AD/CVD Operations, Office V, Enforcement and Compliance, International Trade Administration, U.S. Department of Commerce, 1401 Constitution Avenue NW, Washington, DC 20230; telephone: (202) 482-3927.

SUPPLEMENTARY INFORMATION:

Background

Commerce published the Preliminary Results of this antidumping duty administrative review on certain hot-rolled steel flat products from Australia on November 14, 2018.¹ For events subsequent to the Preliminary Results, see Commerce's Issues and Decision Memorandum.² We invited interested parties to comment on the Preliminary Results. On December 14, 2018, Commerce received a timely filed case brief from BlueScope.³ On December 19, 2018, Commerce received a timely filed rebuttal brief from United States Steel Corporation, ArcelorMittal USA, Nucor Corporation, AK Steel Corporation, Steel Dynamics, and SSAB Enterprises (collectively, the petitioners). On March 5, 2019, Commerce held a public hearing. Commerce conducted this review in accordance with section 751 of the Tariff Act of 1930, as amended (the Act).

¹ See Certain Hot-Rolled Steel Flat Products from Australia: Preliminary Results of Antidumping Duty Administrative Review; 2016-2017, 83 FR 56817 (November 14, 2018) (Preliminary Results).

² See Memorandum, “Issues and Decision Memorandum for the Antidumping Duty Administrative Review: Certain Hot-Rolled Steel Flat Products from Australia; 2016-2017,” dated concurrently with, and hereby adopted by, this notice (Issues and Decision Memorandum).

³ In the investigation, Commerce found that BlueScope Steel Ltd., BlueScope Steel (AIS) Pty Ltd., and BlueScope Steel Distribution Pty Ltd. (collectively, BlueScope) are a single entity and, because there were no changes to the facts which supported that decision since that determination was made, we continue to find that these companies are a single entity for this administrative review. See Certain Hot-Rolled Steel Flat Products from Australia: Final Determination of Sales at Less Than Fair Value, 81 FR 53406, 53407 (August 12, 2016).

Commerce exercised its discretion to toll all deadlines affected by the partial federal government closure from December 22, 2018, through the resumption of operations on January 29, 2019.⁴ If the new deadline falls on a non-business day, in accordance with Commerce's practice, the deadline will become the next business day. The revised deadline for the final results decision is now April 23, 2019.

⁴ See Memorandum, “Deadlines Affected by the Partial Shutdown of the Federal Government,” dated January 28, 2019.

Scope of the Order

The product covered by this review is certain hot-rolled steel flat products from Australia. For a full description of the scope, see the Issues and Decision Memorandum.

Analysis of Comments Received

All issues raised in the case and rebuttal briefs by parties to this administrative review are addressed in the Issues and Decision Memorandum. A list of the issues that parties raised and to which we responded is attached to this notice as an Appendix. The Issues and Decision Memorandum is a public document and is on file electronically via Enforcement and Compliance's Antidumping and Countervailing Duty Centralized Electronic Service System (ACCESS). ACCESS is available to registered users at https://access.trade.gov and in the Central Records Unit, Room B8024 of the main Department of Commerce building. In addition, a complete version of the Issues and Decision Memorandum can be accessed directly at http://enforcement.trade.gov/frn/index.html. The signed Issues and Decision Memorandum and the electronic versions of the Issues and Decision Memorandum are identical in content.

Changes Since the Preliminary Results

Based on our review of the record and comments received from interested parties regarding our Preliminary Results, Commerce has made no changes to the Preliminary Results. As stated in the Preliminary Results, we found that the application of total facts otherwise available with adverse inferences, for BlueScope's dumping margin, pursuant to sections 776(a) and (b) of the Act, was warranted.

Final Results of the Review

We determine that, for the period of March 22, 2016, through September 30, 2017, the following dumping margin exists:

Exporter/producer | Dumping margin (percent)
BlueScope Steel Ltd., BlueScope Steel (AIS) Pty Ltd., and BlueScope Steel Distribution Pty Ltd | 99.20

Disclosure

The final dumping margin assigned to BlueScope for the final results in this review is based on total facts available with adverse inferences. Accordingly, no disclosure of calculations is necessary for these final results.

Assessment Rate

Pursuant to section 751(a)(2)(A) of the Act, and 19 CFR 351.212(b), Commerce has determined, and U.S. Customs and Border Protection (CBP) shall assess, antidumping duties on all appropriate entries of subject merchandise in accordance with the final results of this review. Commerce shall instruct CBP to apply an ad valorem assessment rate of 99.20 percent to all entries of subject merchandise during the POR which were produced and/or exported by BlueScope.

We intend to issue assessment instructions directly to CBP 15 days after publication of the final results of this review.

Cash Deposit Requirements

The following cash deposit requirements will be effective upon publication of the notice of final results of administrative review for all shipments of the subject merchandise entered, or withdrawn from warehouse, for consumption on or after the publication date of the final results of this administrative review, as provided by section 751(a)(2)(C) of the Act: (1) The cash deposit rate for BlueScope will be the rate established in the final results of this administrative review; (2) for merchandise exported by producers or exporters not covered in this administrative review but covered in a prior segment of the proceeding, the cash deposit rate will continue to be the company-specific rate published for the most recently completed segment of this proceeding; (3) if the exporter is not a firm covered in this review, a prior review, or the original investigation, but the producer is, the cash deposit rate will be the rate established for the most recently completed segment of this proceeding for the producer of the subject merchandise; and (4) the cash deposit rate for all other manufacturers or exporters will continue to be 29.58 percent, the all-others rate established in the original investigation.⁵ These cash deposit requirements, when imposed, shall remain in effect until further notice.

⁵ See Certain Hot-Rolled Steel Flat Products from Australia, Brazil, Japan, the Republic of Korea, the Netherlands, the Republic of Turkey, and the United Kingdom: Amended Final Affirmative Antidumping Determinations for Australia, the Republic of Korea, and the Republic of Turkey and Antidumping Duty Orders, 81 FR 67962 (October 3, 2016).

Notification to Importers

This notice also serves as a final reminder to importers of their responsibility under 19 CFR 351.402(f)(2) to file a certificate regarding the reimbursement of antidumping duties prior to liquidation of the relevant entries during this POR. Failure to comply with this requirement could result in the Secretary's presumption that reimbursement of antidumping and/or countervailing duties occurred and the subsequent assessment of doubled antidumping duties.

Notification Regarding Administrative Protective Order

This notice also serves as a reminder to parties subject to administrative protective orders (APO) of their responsibility concerning the return or destruction of proprietary information disclosed under APO in accordance with 19 CFR 351.305(a)(3), which continues to govern business proprietary information in this segment of the proceeding. Timely written notification of the return/destruction of APO materials, or conversion to judicial protective order, is hereby requested. Failure to comply with the regulations and the terms of an APO is a sanctionable violation.

We are issuing and publishing these final results of administrative review in accordance with sections 751(a)(1) and 777(i)(1) of the Act and 19 CFR 351.213(h) and 351.221(b)(5) of Commerce's regulations.

Dated: April 23, 2019.
Jeffrey I. Kessler,
Assistant Secretary for Enforcement and Compliance.

Appendix

List of Topics Discussed in the Issues and Decision Memorandum

I. Summary

II. List of Issues

III. Background

IV. Scope of the Order

V. Discussion of Issues

Comment 1: Whether Commerce's Application of AFA to BlueScope was Warranted

Comment 2: Whether Using the Petition Rate as the AFA Rate was Appropriate

VI. Recommendation

[FR Doc. 2019-08707 Filed 4-29-19; 8:45 am]

BILLING CODE 3510-DS-P